DEPARTMENT OF THE INTERIOR

National Park Service

[NPS-WASO-NAGPRA-NPS0038405; PPWOCRADN0-PCU00RP14.R50000]

Notice of Intended Disposition: U.S. Department of Agriculture, Forest Service, Midewin National Tallgrass Prairie, Wilmington, IL

AGENCY: National Park Service, Interior.

ACTION: Notice.

SUMMARY: In accordance with the Native American Graves Protection and Repatriation Act (NAGPRA), the U.S. Department of Agriculture, Forest Service, Midewin National Tallgrass Prairie (FS Midewin National Tallgrass Prairie) intends to carry out the disposition of human remains removed from Federal or Tribal lands to the lineal descendants, Indian Tribe, or Native Hawaiian organization with priority for disposition in this notice.

DATES: Disposition of the human remains in this notice may occur on or after September 5, 2024. If no claim for disposition is received by August 6, 2025, the human remains in this notice will become unclaimed human remains or cultural items.

ADDRESSES: Chirstina Henderson, Supervisor, Midewin National Tallgrass Prairie, USDA Forest Service, 30239 S. State Route 53, Wilmington, IL 60481, telephone (815) 423-6370, email Christina.Henderson@usda.gov.

SUPPLEMENTARY INFORMATION: This notice is published as part of the National Park Service's administrative responsibilities under NAGPRA. The determinations in this notice are the sole responsibility of the FS Midewin National Tallgrass Prairie and additional information on the human remains in this notice, including the results of consultation, can be found in the related records. The National Park Service is not responsible for the identifications in this notice.

Abstract of Information Available

Based on the information available, human remains representing, one individual (ancestor) have been reasonably identified. No associated funerary objects, sacred objects or objects of cultural patrimony are present. On July 21, 2021, one isolated, calcined fragment of parietal bone was removed during archaeological excavations conducted by the University of Notre Dame du Lac, operating under an ARPA permit, on Midewin National Tallgrass Prairie, USDA, Forest Service, in Will County, Illinois.

Determinations

The FS Midewin National Tallgrass Prairie has determined that:

• The human remains described in this notice represent the physical remains of one individual of Native American ancestry.

• The Ho-Chunk Nation of Wisconsin have priority for disposition of the human remains described in this notice.

Claims for Disposition

Written claims for disposition of the human remains in this notice must be sent to the appropriate official identified in this notice under ADDRESSES. If no claim for disposition is received by August 6, 2025, the human remains in this notice will become unclaimed human remains. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains in this notice may occur on or after September 5, 2024. If competing claims for disposition are received, the FS Midewin National Tallgrass Prairie must determine the most appropriate claimant prior to disposition. Requests for joint disposition of the human remains are considered a single request and not competing requests. The FS Midewin National Tallgrass Prairie is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: July 26, 2024.
Melanie O'Brien,
Manager, National NAGPRA Program.

[FR Doc. 2024-17265 Filed 8-5-24; 8:45 am]

BILLING CODE 4312-52-P